ENVIRONMENTAL PROTECTION AGENCY

[FRL-9649-8]

FY2012 Supplemental Funding for Brownfields Revolving Loan Fund (RLF) Grantees

AGENCY: Environmental Protection Agency (EPA).

ACTION: Notice of the availability of funds.

SUMMARY: EPA's Office of Brownfields and Land Revitalization (OBLR) plans to make available approximately $7 million to provide supplemental funds to Revolving Loan Fund capitalization grants previously awarded competitively under section 104(k)(3) of the Comprehensive Environmental Response, Compensation and Liability Act (CERCLA), 42 U.S.C. 9604(k)(3). Brownfields Cleanup Revolving Loan Fund (BCRLF) pilots awarded under section 104(d)(1) of CERCLA that have not transitioned to section 104(k)(3) grants are not eligible to apply for these funds. EPA will consider awarding supplemental funding only to RLF grantees who have demonstrated an ability to deliver programmatic results by making at least one loan or subgrant. The award of these funds is based on the criteria described at CERCLA 104(k)(4)(A)(ii).

The Agency is now accepting requests for supplemental funding from RLF grantees. Requests for funding must be submitted to the appropriate EPA Regional Brownfields Coordinator (listed below) by April 18, 2012. Funding requests for hazardous substances and/or petroleum funding will be accepted. Specific information on submitting a request for RLF supplemental funding is described below and additional information may be obtained by contacting the EPA Regional Brownfields Coordinator.

DATES: This action is effective March 19, 2012.

ADDRESSES: A request for supplemental funding must be in the form of a letter addressed to the appropriate Regional Brownfields Coordinator (see listing below) with a copy to Megan Quinn, Quinn.Megan@epa.gov or U.S. EPA, 1200 Pennsylvania Ave. NW., MC: 5105T, Washington, DC 20460.

FOR FURTHER INFORMATION CONTACT: Megan Quinn, U.S. EPA, (202) 566-2773 or the appropriate Brownfields Regional Coordinator.

SUPPLEMENTARY INFORMATION:

Background

The Small Business Liability Relief and Brownfields Revitalization Act added section 104(k) to CERCLA to authorize federal financial assistance for brownfields revitalization, including grants for assessment, cleanup and job training. Section 104(k) includes a provision for the EPA to, among other things, award grants to eligible entities to capitalize Revolving Loan Funds and to provide loans and subgrants for brownfields cleanup. Section 104(k)(4)(A)(ii) authorizes EPA to make additional grant funds available to RLF grantees for any year after the year for which the initial grant is made (noncompetitive RLF supplemental funding) taking into consideration:

(I) The number of sites and number of communities that are addressed by the revolving loan fund;

(II) The demand for funding by eligible entities that have not previously received a grant under this subsection;

(III) The demonstrated ability of the eligible entity to use the revolving loan fund to enhance remediation and provide funds on a continuing basis; and

(IV) Such other similar factors as the [Agency] considers appropriate to carry out this subsection.

Eligibility

In order to be considered for supplemental funding, grantees must demonstrate that they have expended existing funds and that they have a clear plan for quickly expending requested additional funds. Grantees must demonstrate that they have made at least one loan or subgrant prior to applying for this supplemental funding and have significantly depleted existing available funds. For FY2012, EPA defines “significantly depleted funds” as any grant where $250,000-$300,000 or less remains uncommitted for single entities and $300,000-$400,000 or less remains uncommitted for states/large coalitions. Additionally, the RLF recipient must have demonstrated a need for supplemental funding based on, among other factors, the number of sites that will be addressed; demonstrated the ability to make loans and subgrants for cleanups that can be started and completed expeditiously (i.e. “shovel-ready” projects) and will lead to redevelopment; demonstrated the existence of additional leveraged funds to complete the project in a timely manner and move quickly from cleanup to redevelopment, including the use of tax incentives such as new market tax credits, direct funding or other resources to advance the project to completion; demonstrated the ability to administer and revolve the capitalization funding in the RLF grant; demonstrated an ability to use the RLF grant to address funding gaps for cleanup; and demonstrated that they have provided a community benefit from past and potential loan(s) and/or subgrant(s). Special consideration may be given to those communities affected by auto plant closures or other economic disruptions. Special consideration may also be given to those grantees that can demonstrate projects that have a clear prospect of aiding the in-sourcing of manufacturing capacity and keeping and/or adding jobs, or otherwise creating jobs, in the affected area. Applicants for supplemental funding must contact the appropriate Regional Brownfields Coordinator below to obtain information on the format for supplemental funding applications for their region. When requesting supplemental funding, applicants must specify whether they are seeking funding for sites contaminated by hazardous substances or petroleum. Applicants may request both types of funding.

Regional Contacts
Region & states | Address/Phone number/Email
EPA Region 1, Diane Kelley, Kelley.Diane@epa.gov | CT, ME, MA, NH, RI, VT | One Congress Street, Suite 1100, Boston, MA 02114-2023, Phone (617) 918-1424, Fax (617) 918-1291.
EPA Region 2, Lya Theodoratos, Theodoratos.Lya@epa.gov | NJ, NY, PR, VI | 290 Broadway, 18th Floor, New York, NY 10007, Phone (212) 637-3260, Fax (212) 637-4360.
EPA Region 3, Tom Stolle, Stolle.Tom@epa.gov | DE, DC, MD, PA, VA, WV | 1650 Arch Street, Mail Code 3HS51, Philadelphia, Pennsylvania 19103, Phone (215) 814-3129, Fax (215) 814-5518.
EPA Region 4, Phil Vorsatz, Vorsatz.Philip@epa.gov | AL, FL, GA, KY, MS, NC, SC, TN | Atlanta Federal Center, 61 Forsyth Street, S.W., 10TH FL, Atlanta, GA 30303-8960, Phone (404) 562-8789 Fax (404) 562-8439.
EPA Region 5, Deborah Orr, Orr.Deborah@epa.gov | IL, IN, MI, MN, OH, WI | 77 West Jackson Boulevard, Mail Code SE-4J, Chicago, Illinois 60604-3507, Phone (312) 886-7576, Fax (312) 886-7190.
EPA Region 6, Mary Kemp, Kemp.Mary@epa.gov | AR, LA, NM, OK, TX | 1445 Ross Avenue, Suite 1200 (6SF-PB), Dallas, Texas 75202-2733, Phone (214) 665-8358, Fax (214) 665-6660.
EPA Region 7, Susan Klein, Klein.Susan@epa.gov | IA, KS, MO, NE | 901 N. 5th Street, Kansas City, Kansas 66101, Phone (913) 551-7786 Fax (913) 551-8688.
EPA Region 8, Dan Heffernan, Heffernan.Daniel@epa.gov | CO, MT, ND, SC, UT, WY | 1595 Wynkoop Street (EPR-B), Denver, CO 80202-1129, Phone (303) 312-7074, Fax (303) 312-6065.
EPA Region 9, Noemi Emeric-Ford, Emeric-Ford.Noemi@epa.gov | AZ, CA, HI, NV, AS, GU | 75 Hawthorne Street, WST-8, San Francisco, CA 94105, Phone (213) 244-1821, Fax (415) 972-3364.
EPA Region 10, Susan Morales, Morales.Susan@epa.gov | AK, ID, OR, WA | 1200 Sixth Avenue, Suite 900, Mailstop: ECL-112 Seattle, WA 98101, Phone (206) 553-7299, Fax (206) 553-0124.

Dated: March 13, 2012.
Gail A. Cooper,
Acting Director, Office of Brownfields and Land Revitalization, Office of Solid Waste and Emergency Response.

[FR Doc. 2012-6581 Filed 3-16-12; 8:45 am]

BILLING CODE 6560-50-P